DEPARTMENT OF LABOR

Employment and Training Administration

Proposed Information Collection Request Submitted for Public Comment and Recommendations; NAFTA-Transitional Adjustment Assistance Customer Survey Form

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed renewal of the information collection of the NAFTA Transitional Adjustment Assistance Customer Survey Form, ETA 9044.

A copy of the proposed information collection request can be obtained by contacting the employee listed below in the contact section of this notice.

DATES: Written comments must be submitted on or before June 5, 2001. Written comments should evaluate whether the proposed collection of information is necessary for the proper performance of the functions of the agency, including whether the information will have practical utility; evaluate the accuracy of the agency's estimate of the burden of the proposed collection of information including the validity of the methodology and assumptions used; enhance the quality, utility, and clarity of the information to be collected; and minimize the burden of the collection of information on those who are to respond, including through the use of appropriate automated, electronic, mechanical, or other technological automated, electronic, mechanical, or other technological collection techniques or other forms of information technology, e.g., permitting electronic submission of responses.

ADDRESSES: Edward A. Tomchick, Division of Trade Adjustment Assistance, Employment and Training Administration, Department of Labor, Room C-5311, 200 Constitution Avenue, NW., Washington, DC 20210, 202-693-3560 (this is not a toll-free number).

SUPPLEMENTARY INFORMATION:

I. Background

The North American Free Trade Agreement (NAFTA) Implementation Act amended Chapter 2 of Title II of the Trade Act of 1974 to add a Subchapter D—NAFTA Transitional Adjustment Assistance Program. This program provides needed adjustment assistance to workers adversely affected because of imports from Canada or Mexico or shifts of production from the United States to those countries.

Section 250 of the Act authorizes the Governor of each State to accept petitions for certification of eligibility to apply for NAFTA transitional adjustment assistance. Once a preliminary finding is issued by the Governor, the Secretary must determine to what extent, if any, increased imports from Mexico or Canada have impacted the petitioning workers' firm selling market, and thus determine whether the statutory criteria for worker group eligibility are met. The customer survey form establishes the format which has been used by the Secretary to determine the impact of imports.

II. Current Actions

This is a request for OMB approval under [the Paperwork Reduction Act of 1995 (44 U.S.C. 3506(c)(2)(A)] for renewal of a of collection of information previously approved and assigned OMB Control No. 1205-0337.

Type of Review: Extension without change.

Agency: Employment and Training Administration, Labor.

Title: NAFTA Transitional Adjustment Assistance, Customer Survey Form.

OMB Number: 1205-0337.

Agency Number: ETA-9044.

Affected Public: Businesses.

Total Respondents: Estimated 420.

Frequency: On occasion.

Estimated Time Per Response: 2 hours.

Estimated Total Respondent Cost: $32,130.

Comments submitted in response to this notice will be summarized and/or included in the request for Office of Management and Budget approval of the information collection request; they will also become a matter of public record.

Dated: March 30, 2001.
Edward A. Tomchick,
Acting Director, Office of Trade Adjustment Assistance.

[FR Doc. 01-8521 Filed 4-5-01; 8:45 am]

BILLING CODE 4510-30-M